DEPARTMENT OF AGRICULTURE

Animal and Plant Health Inspection Service

[Docket No. 01-084-1]

Notice of Request for Extension of Approval of an Information Collection

AGENCY: Animal and Plant Health Inspection Service, USDA.

ACTION: Extension of approval of an information collection; comment request.

SUMMARY: In accordance with the Paperwork Reduction Act of 1995, this notice announces the Animal and Plant Health Inspection Service's intention to request an extension of approval of an information collection in support of the Pseudorabies Eradication Program.

DATES: We invite you to comment on this docket. We will consider all comments that we receive by December 3, 2001.

ADDRESSES: Please send four copies of your comment (an original and three copies) to: Docket No. 01-084-1, Regulatory Analysis and Development, PPD, APHIS, Suite 3C03, 4700 River Road Unit 118, Riverdale, MD 20737-1238. Please state that your comment refers to Docket No. 01-084-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information regarding the Pseudorabies Eradication Program, contact Dr. Arnold Taft, Senior Staff Veterinarian, National Animal Health Programs, VS, APHIS, 4700 River Road Unit 43, Riverdale, MD 20737, (301) 734-7708. For copies of more detailed information on the information collection, contact Mrs. Celeste Sickles, APHIS' Information Collection Coordinator, at (301) 734-7477.

SUPPLEMENTARY INFORMATION: Title: Pseudorabies.

OMB Number: 0579-0070.

Type of Request: Extension of approval of an information collection.

Abstract: The Animal and Plant Health Inspection Service (APHIS) of the U.S. Department of Agriculture is responsible for preventing the spread of contagious, infectious, or communicable animal diseases from one State to another, and for eradicating such diseases from the United States when feasible.

In connection with this mission, APHIS regulates the interstate movement of swine in order to carefully control the movement of swine that are infected with or exposed to pseudorabies. These regulations are found in 9 CFR part 85. The most common method of pseudorabies transmission is through the movement of infected swine from one herd to another.

Regulating the interstate movement of these animals requires the use of certain information collection activities, including the completion of documents attesting to the health status of the swine being moved, the number of swine being moved in a particular shipment, the shipment's point of origin, and the shipment's destination.

With this information, we are able to carefully monitor the location of infected or exposed animals and prevent them from coming into contact with healthy animals.

These documents also provide useful “traceback” information in the event an infected animal is discovered and an investigation must be launched to determine where the animal originated, as well as the number and location of other animals with which it may have had contact during its interstate movement.

The information provided by these documents is critical to our ability to prevent the interstate spread of pseudorabies, and therefore plays a vital role in our Pseudorabies Eradication Program.

We are asking the Office of Management and Budget (OMB) to approve the use of this information collection activity for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.02076 hours per response.

Respondents: Swine shippers, swine herd owners, and State animal health protection authorities.

Estimated annual number of respondents: 30,050.

Estimated annual number of responses per respondent: 2.66888.

Estimated annual number of responses: 80,200.

Estimated total annual burden on respondents: 1,665 hours. (Due to averaging, the total annual burden hours may not equal the product of the annual number of responses multiplied by the reporting burden per response.)

All responses to this notice will be summarized and included in the request for OMB approval. All comments will also become a matter of public record.

Done in Washington, DC, this 28th day of September 2001.
Bobby R. Acord,
Acting Administrator, Animal and Plant Health Inspection Service.

[FR Doc. 01-24884 Filed 10-3-01; 8:45 am]

BILLING CODE 3410-34-P